DEPARTMENT OF TRANSPORTATION

Federal Aviation Administration

14 CFR Part 71

[Docket No. FAA-2022-1260; Airspace Docket No. 22-ACE-9]

RIN 2120-AA66

Establishment of Area Navigation (RNAV) Route T-465; Northcentral United States

AGENCY: Federal Aviation Administration (FAA), DOT.

ACTION: Final rule.

SUMMARY: This action establishes Area Navigation (RNAV) route T-465 in the northcentral United States. The new RNAV route expands the availability of RNAV routing within the National Airspace System (NAS) in support of transitioning it from a ground-based to satellite-based navigation system.

DATES: Effective date 0901 UTC, April 20, 2023. The Director of the Federal Register approves this incorporation by reference action under 1 CFR part 51, subject to the annual revision of FAA Order JO 7400.11 and publication of conforming amendments.

ADDRESSES: FAA Order JO 7400.11G, Airspace Designations and Reporting Points, and subsequent amendments can be viewed online at www.faa.gov/air_traffic/publications/. For further information, you can contact the Rules and Regulations Group, Federal Aviation Administration, 800 Independence Avenue SW, Washington, DC 20591; telephone: (202) 267-8783.

FOR FURTHER INFORMATION CONTACT: Colby Abbott, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the route structure as necessary to preserve the safe and efficient flow of air traffic within the NAS.

History

The FAA published a notice of proposed rulemaking (NPRM) for Docket No. FAA-2022-1260 in the Federal Register (87 FR 65546; October 31, 2022), establishing RNAV route T-465 in support of FAA efforts to transition the NAS from a ground-based to a satellite-based Performance Based Navigation (PBN) system. Interested parties were invited to participate in this rulemaking effort by submitting written comments on the proposal. Two positive comments were received supporting the establishment of T-465, acknowledging the enhanced safety related benefits provided to pilots and air traffic controllers alike by transitioning the NAS to a satellite-based navigation system.

United States Area Navigation Routes are published in paragraph 6011 of FAA Order JO 7400.11G, dated August 19, 2022, and effective September 15, 2022, which is incorporated by reference in 14 CFR 71.1. The RNAV route action listed in this document will be published subsequently in FAA Order JO 7400.11.

Differences From the NPRM

Subsequent to the NPRM, the FAA recognized the NPRM was published using Docket No. FAA-2202-1260, in error. The correct Docket No. is FAA-2022-1260. This rule corrects the Docket No. typographical error and changes the Docket No. for this action from “FAA-2202-1260” to “FAA-2022-1260”.

Availability and Summary of Documents for Incorporation by Reference

This document amends FAA Order JO 7400.11G, Airspace Designations and Reporting Points, dated August 19, 2022, and effective September 15, 2022. FAA Order JO 7400.11G is publicly available as listed in the ADDRESSES section of this document. FAA Order JO 7400.11G lists Class A, B, C, D, and E airspace areas, air traffic service routes, and reporting points.

The Rule

This action amends 14 CFR part 71 by establishing RNAV route T-465 between the Des Moines, IA, area and the Minneapolis, MN, terminal area. The new RNAV route is described below.

T-465: T-465 is a new RNAV route that extends between the Des Moines, IA (DSM), VHF Omnidirectional Range/Tactical Air Navigation (VORTAC) navigational aid (NAVAID) and the NITZR, MN, waypoint (WP) located near Morristown, MN. This T-route provides enroute routing adjacent to VHF Ominidirectional Range (VOR) Federal airways V-13 and V-161 between the Des Moines VORTAC and the Mason City, IA, VOR/Distance Measuring Equipment (VOR/DME) NAVAIDs; and enroute routing adjacent to VOR Federal airways V-13 and V-505 between the Mason City, IA, VOR/DME NAVAID and the NITZR WP.

FAA Order 7400.11, Airspace Designations and Reporting Points, is published yearly and effective on September 15.

Regulatory Notices and Analyses

The FAA has determined that this regulation only involves an established body of technical regulations for which frequent and routine amendments are necessary to keep them operationally current. It, therefore: (1) is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

Environmental Review

The FAA has determined that this action of establishing RNAV route T-465 between the Des Moines, IA, VORTAC and the NITZR, MN, WP qualifies for categorical exclusion under the National Environmental Policy Act (42 U.S.C. 4321 et seq.) and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points); and, 5-6.5b, which categorically excludes from further environmental impact review actions regarding establishment of jet routes and Federal airways (see 14 CFR 71.15, Designation of jet routes and VOR Federal airways); operation of civil aircraft in a defense area, or to, within, or out of the United States through a designated Air Defense Identification Zone (ADIZ) (14 CFR part 99, Security Control of Air Traffic); authorizations for operation of moored balloons, moored kites, amateur rockets, and unmanned free balloons (see 14 CFR part 101, Moored Balloons, Kites, Amateur Rockets and Unmanned Free Balloons); and, authorizations of parachute jumping and inspection of parachute equipment (see 14 CFR part 105, Parachute Operations). As such, this action is not expected to result in any potentially significant environmental impacts. In accordance with FAA Order 1050.1F, paragraph 5-2 regarding Extraordinary Circumstances, the FAA has reviewed this action for factors and circumstances in which a normally categorically excluded action may have a significant environmental impact requiring further analysis. The FAA has determined that no extraordinary circumstances exist that warrant preparation of an environmental assessment or environmental impact study.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11G, Airspace Designations and Reporting Points, dated August 19, 2022, and effective September 15, 2022, is amended as follows:

Paragraph 6011 United States Area Navigation Routes.

* * * * *

T-465 Des Moines, IA (DSM) to NITZR, MN [New]
Des Moines, IA (DSM) | VORTAC | (Lat. 41°26′15.45″ N, long. 093°38′54.81″ W)
RRAZZ, IA | WP | (Lat. 43°17′00.00″ N, long. 093°33′05.00″ W)
DEMLL, MN | WP | (Lat. 43°57′55.00″ N, long. 093°29′29.00″ W)
NITZR, MN | WP | (Lat. 44°11′10.48″ N, long. 093°27′57.86″ W)

* * * * *

Issued in Washington, DC, on January 20, 2023.
Brian Konie,
Acting Manager, Airspace Rules and Regulations.

[FR Doc. 2023-01458 Filed 1-25-23; 8:45 am]

BILLING CODE 4910-13-P